SECURITIES AND EXCHANGE COMMISSION

Sunshine Act Meeting

Notice is hereby given, pursuant to the provisions of the Government in the Sunshine Act, Public Law 94-409, that the Securities and Exchange Commission will hold a conference commemorating the 75th Anniversary of the Investment Company Act and the Investment Advisers Act on Tuesday, September 29, 2015 from 9:15 a.m. to 4:15 p.m., in the Auditorium, Room L-002.

The event will include remarks from SEC Chair Mary Jo White and fellow commissioners, as well as a series of panel discussions featuring industry pioneers, former SEC chairmen and division directors, academics and other distinguished leaders to discuss significant ideas and themes in the history of the asset management industry.

The conference will be held at SEC headquarters at 100 F Street NE. in Washington, DC. The roundtable will be webcast on the Commission's Web site at www.sec.gov and will be archived for later viewing. Seating for the public will be available.

For further information, please contact: The Office of the Secretary at (202) 551-5400.

Dated: September 22, 2015.
Brent J. Fields,
Secretary.

[FR Doc. 2015-24547 Filed 9-23-15; 4:15 pm]

BILLING CODE 8011-01-P